ENVIRONMENTAL PROTECTION AGENCY

[WH-FRL-6605-4]

Public Stakeholder Meeting on the National Strategy To Develop Regional Nutrient Criteria

AGENCY: Environmental Protection Agency (EPA).

ACTION: Notice of public stakeholder meeting on the National Strategy to Develop Regional Nutrient Criteria.

SUMMARY: The Environmental Protection Agency (EPA) is holding a stakeholder meeting on May 25, 2000, to stimulate an information exchange with stakeholders on issues related to the National Strategy to Develop Regional Nutrient Criteria.

DATES: The public stakeholder meeting will start at 9 a.m. and adjourn at 5:30 p.m. on May 25, 2000.

FOR FURTHER INFORMATION CONTACT: Robert Cantilli (4304), U.S. EPA Headquarters, Ariel Rios Building, 1200 Pennsylvania Ave., NW (MC 4304), Washington, DC 20460 (Telephone: (202) 260-5546).

SUPPLEMENTARY INFORMATION: The public stakeholder meeting will be held at the Hilton—Crystal City, 2399 Jefferson Davis Highway, Arlington, VA for the purpose of conducting an information exchange with stakeholders on issues related to the National Strategy to Develop Regional Nutrient Criteria. The public stakeholder meeting will provide an opportunity for interested persons to discuss the issues and process for developing and implementing regional nutrient criteria. Specifically, EPA will discuss progress it has made in developing draft ecoregional nutrient criteria as well as recommended procedures for implementing these criteria. The stakeholder meeting will also be an opportunity for substantive input and dialogue with the primary authors of the Nutrient Waterbody Type Guidance Documents as well as EPA Regional Nutrient Coordinators who are supporting the development and adoption of regional nutrient criteria at the State and ecoregional level. Participants for the stakeholders meeting who wish to make comments or ask questions are strongly encouraged to provide an advance written request due to potential time limitations. Requests to speak at the stakeholder meeting should be made to John Bachman, Great Lakes Environmental Center, Inc. at (231) 941-2230 or by e-mail at: jbachman@glec-tc.com.

EPA is inviting all interested members of the public to participate in the stakeholder meeting. Approximately 150 seats will be available for the public. Seats will be available on a first-come, first served basis. On-site registration for the meeting will begin at 8 a.m.

For additional information about the meeting, please contact Robert Cantilli of EPA's Office of Science and Technology at (202) 260-5546 or by e-mail at cantilli.robert@epa.gov.

James Hanlon,
Acting Director, Office of Science and Technology.

[FR Doc. 00-12001 Filed 5-11-00; 8:45 am]

BILLING CODE 6560-50-P